DEPARTMENT OF TRANSPORTATION

Federal Railroad Administration

[Docket No. FRA-2024-0005]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA will seek approval of the Information Collection Request (ICR) summarized below. Before submitting this ICR to the Office of Management and Budget (OMB) for approval, FRA is soliciting public comment on specific aspects of the activities identified in the ICR.

DATES: Interested persons are invited to submit comments on or before June 3, 2024.

ADDRESSES: Written comments and recommendations for the proposed ICR should be submitted on regulations.gov to the docket, Docket No. FRA-2024-0005. All comments received will be posted without change to the docket, including any personal information provided. Please refer to the assigned OMB control number (2130-NEW) in any correspondence submitted. FRA will summarize comments received in response to this notice in a subsequent notice, made available to the public, and include them in its information collection submission to OMB for approval.

FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: FRA Workforce Development (WFD) Study on Performance Management Systems and Organizational Culture and Diversity.

OMB Control Number: 2130-NEW.

Abstract: This project is being conducted in response to a Broad Agency Announcement (BAA) topic released in 2020 entitled “Research in Response to Railroad Systems Issues Strategic Priorities.” FRA has released BAAs aimed at workforce training and development, developing educational and vocational pipelines, and addressing issues around equity and inclusivity within the rail industry. Existing research on demographics, organizational practices, and policies, as well as industry culture need to be updated to account for the profound changes in employment practices and workforce dynamics in the last few years, including inflation and supply chain issues. This data collection effort will improve the understanding of the current state of the industry and establish a baseline against which to measure future impacts.

The team conducting this research will survey and interview a cross-section of stakeholders familiar with the current culture in rail, about barriers to entry they see and experience as impacting minority populations. Part of the data analysis will examine findings by employment position to determine if the views at the executive or managerial levels are similar or shared by individuals and staff in more entry-level positions. The research team will also review source documents and artifacts which show how the stakeholder's performance management system was designed and how it is intended to work. Data will be collected and compiled from interviews and focus groups about how well the performance management system functions in practice, whether the intended use differs from actual use, and whether observed differences in use benefit or hinder efficacy in recruiting and retaining diverse talent.

The study focuses on performance management systems because there is evidence that organizational culture plays a significant role in shaping industry demographics. The findings from this research will provide a better understanding of how employees at various levels are affected by performance management systems and how these systems contribute to organizational culture. The project team will provide FRA with data and best practices that could be used to recommend workforce development initiatives, that may affect organizational culture, for rail organizations and other related industries. Therefore, the research will offer novel, actionable solutions for diversifying the rail workforce.

The main objectives in this study are to: (1) expand on research done to date and to gain a better understanding of the organizational culture and challenges in recruiting and retaining underrepresented individuals in the rail industry; (2) understand how employees at various levels are affected by performance management systems and organizational culture; and (3) examine and identify best practices for the use of performance management systems as a tool for equitable and diverse recruitment, development, retention, and promotion.

Primary users of this information will be those in the rail industry. The findings of this study will provide qualitative data on the current workforce culture in rail and how performance management systems may affect organizational culture. Industry stakeholders, FRA, and DOT may use this data to identify gaps, develop approaches, and create interventions/solutions to enhance workforce development initiatives for underrepresented groups.

FRA will publish the results of this study. A summary of the results may also be presented at technical meetings, such as the annual meeting of the Transportation Research Board, or at conferences/talks with professional associations such as the Women's Transportation Seminar and the American Public Transportation Association.

Type of Request: Approval of a new collection of information.

Affected Public: Rail stakeholders including those in labor positions, carrier management, research/academia, professional association staff, HR personnel, regulators, executive level staff, etc.

Form(s): FRA F 6180.278 and FRA F 6180.279.

Respondent Universe: Rail stakeholders including those in labor positions, carrier management, research/academia, professional association staff, human resources (HR) personnel, regulators, executive level staff, etc.

Frequency of Submission: On occasion.

¹ The dollar equivalent cost is derived from the 2022 Department of Labor, Bureau of Labor Statistics (BLS), Occupational Employment Statistics, classified with NAICS 482100, Rail Transportation. See http://www.bls.gov/oes/currrent/naics4_482100.htm#00-000. The total burden wage rate (Straight time plus 31%) used in the table is $45.26 (34.55 +10.71 = $45.26).

² A semi-structured interview is a qualitative research method that utilizes some structured questions that will prompt discussion with the opportunity for unstructured exploration (additional questions or clarification of responses) of themes as they engage during the discussion.

³ Totals may not add up due to rounding.

Reporting Burden:

Description | Respondent universe | Total annual responses | Average time per response | Total annual burden hours | Total cost equivalent in U.S. dollar
|  | (A) | (B) | (C = A * B) | (D = C* Wage Rates) ¹
Email notification for on-line survey. This notification includes confidentiality statement to potential participants (before the survey) | 150 rail stakeholders | 50 Participants | 10 minutes | 8.33 hours | $377.02
FRA F 6180-279—WFD on-line survey on Organizational Culture & Performance Management in Rail. (New form) | 150 rail stakeholders | 30 Participants | 20 minutes | 10.00 hours | $452.60
Email notification for Performance Management Systems interview/focus group. This notification includes confidentiality statement to potential focus group and interview respondents (before the interview) | 30 rail stakeholders | 10 Participants | 10 minutes | 1.67 hours | $75.58
FRA F 6180.278—WFD Interview Questions. Semi-structured ² interview questions/focus groups on experiences with workforce culture & performance Management systems (New form) | 30 rail stakeholders | 5 Participants | 1 hour | 5.00 hours | $226.30
Totals ³ | 150 rail holders | 95 responses | N/A | 25 hours | $1,132

Total Estimated Annual Responses: 95.

Total Estimated Annual Burden: 25 hours.

Total Estimated Annual Burden Hour Dollar Cost Equivalent: $1,132.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2024-06890 Filed 4-1-24; 8:45 am]

BILLING CODE 4910-06-P